DEPARTMENT OF TRANSPORTATION

Pipeline and Hazardous Materials Safety Administration

[Docket No. PHMSA-2016-0114; Notice No. 2016-19]

Hazardous Materials: International Standards on the Transport of Dangerous Goods

AGENCY: Pipeline and Hazardous Materials Safety Administration (PHMSA), DOT.

ACTION: Notice of public meeting.

SUMMARY: This notice is to inform interested persons that PHMSA will conduct a public meeting on Tuesday, November 15, 2016, in preparation for the 50th session of the United Nations Sub-Committee of Experts on the Transport of Dangerous Goods (UNSCOE TDG) to be held in Geneva, Switzerland from November 28 to December 6, 2016. During this public meeting, PHMSA will be requesting comments relative to potential new work items that may be considered for inclusion in the international agenda.

DATES: Tuesday, November 15, 2016; from 9:00 a.m. to 12:00 p.m.

ADDRESSES: DOT Headquarters, West Building, Oklahoma City Conference Room, 1200 New Jersey Avenue SE., Washington, DC 20590.

Advanced Meeting Registration: DOT requests that attendees pre-register for this meeting by completing the form at https://www.surveymonkey.com/r/CRPK2YY. Failure to pre-register may delay your access into the DOT Headquarters building. Additionally, if you are attending in person, arrive early to allow time for security checks necessary to access the building.

Conference call-in and “Skype meeting” capability will be provided. Specific information on such access will be posted when available at http://www.phmsa.dot.gov/hazmat/regs/international under “Upcoming Events.”

FOR FURTHER INFORMATION CONTACT: Steven Webb or Aaron Wiener, Office of Hazardous Materials Safety, Department of Transportation, Washington, DC 20590, telephone 202-366-8553.

SUPPLEMENTARY INFORMATION: The primary purpose of this meeting is to prepare for the 50th session of the UNSCOE TDG. This session represents the final meeting scheduled for the 2015-2016 biennium. UNSCOE will consider proposals for the 20th Revised Edition of the United Nations Recommendations on the Transport of Dangerous Goods Model Regulations (Model Regulations), which may be implemented into relevant domestic, regional, and international regulations from January 1, 2019. Copies of working documents, informal documents, and the meeting agenda may be obtained from the United Nations Transport Division's Web site at http://www.unece.org/trans/main/dgdb/dgsubc3/c3age.html.

General topics on the agenda for the UNSCOE TDG meeting include:

• Explosives and related matters;

• Listing, classification, and packing;

• Electric storage systems;

• Transport of gases;

• Global harmonization of transport of dangerous goods regulations with the Model Regulations;

• Guiding principles for the Model Regulations;

• Cooperation with the International Atomic Energy Agency (IAEA);

• New proposals for amendments to the Model Regulations;

• Issues relating to the Globally Harmonized System of Classification and Labeling of Chemicals (GHS); and

• Miscellaneous pending issues.

Following the 50th session of the UNSCOE TDG, a copy of the Sub-Committee's report will be available at the United Nations Transport Division's Web site at http://www.unece.org/trans/main/dgdb/dgsubc3/c3rep.html. PHMSA's Web site at http://www.phmsa.dot.gov/hazmat/regs/international provides additional information regarding the UNSCOE TDG and related matters.

Signed in Washington, DC, on October 13, 2016.
Rachel Meidl,
Deputy Associate Administrator for Hazardous Materials Safety, Pipeline and Hazardous Materials Safety Administration.

[FR Doc. 2016-25181 Filed 10-17-16; 8:45 am]

BILLING CODE 4910-60-P